ENVIRONMENTAL PROTECTION AGENCY

[EPA-HQ-OW-2015-0469; FRL_9943-52-OW ]

Extension of Public Comment Period for the Draft Technical Support Document: Recommended Estimates for Missing Water Quality Parameters for Application in EPA's Biotic Ligand Model

AGENCY: Environmental Protection Agency (EPA).

ACTION: Notice; extension of comment period.

SUMMARY: The Environmental Protection Agency (EPA) is extending the comment period for the draft technical support document: Recommended Estimates for Missing Water Quality Parameters for Application in EPA's Biotic Ligand Model. In response to stakeholder requests, the comment period will be extended for an additional 32 days, from March 17, 2016 to April 18, 2016.

DATES: Comments must be received on or before April 18, 2016.

ADDRESSES: Submit your comments, identified by Docket ID No. EPA-HQ-OW-2015-0469, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Kathryn Gallagher, Health and Ecological Criteria Division, Office of Water (Mail Code 4304T), Environmental Protection Agency, 1200 Pennsylvania Avenue NW., Washington, DC 20460; telephone: (202) 564-1398; email address: gallagher.kathryn@epa.gov.

SUPPLEMENTARY INFORMATION: On February 16, 2016 EPA announced the availability of the draft technical support document: Recommended Estimates for Missing Water Quality Parameters for Application in EPA's Biotic Ligand Model, and opened a 30-day public review and comment period to seek additional scientific views, data, and information regarding the science and technical approach used in the draft document (81 FR 7784).

The original deadline to submit comments was March 17, 2016. This action extends the comment period for 32 days. Written comments must now be received by April 18, 2016. The draft report and other supporting materials may also be viewed and downloaded from EPA's Web site at http://www.epa.gov/wqc/aquatic-life-criteria-copper#draft.

Dated: March 3, 2016.
Elizabeth Southerland,
Director, Office of Science and Technology.

[FR Doc. 2016-05281 Filed 3-9-16; 8:45 am]

BILLING CODE 6560-50-P